DEPARTMENT OF STATE

[Public Notice: 9773]

Shipping Coordinating Committee: Amended Notice of Public Meeting

Notice is hereby given of a change in date and location of the Shipping Coordinating Committee (SHC) meeting announced in the Federal Register on September 30, 2016, 81 FR 67415. The meeting will be held at 9:00 a.m. on November 10, 2016, in Room 6i10-01-a of the Douglas A. Munro Coast Guard Headquarters Building at St. Elizabeth's, 2703 Martin Luther King Jr. Avenue SE., Washington, DC 20593. The primary purpose of the meeting is to prepare for the ninety-seventh session of the International Maritime Organization's (IMO) Maritime Safety Committee to be held at the IMO Headquarters, United Kingdom, November 21-25, 2016. For the agenda, security requirements, and RSVP/contact information, please refer to the previous Federal Register notice. Reasonable accommodation requests should be made by November 3, 2016. Requests after that date might not be able to be fulfilled.

Dated: October 17, 2016.
Jonathan W. Burby,
Executive Secretary, Shipping Coordinating Committee, Department of State.

[FR Doc. 2016-25774 Filed 10-24-16; 8:45 am]

BILLING CODE 4710-09-P